COMMISSION ON CIVIL RIGHTS

Notice of Public Meeting of the Texas Advisory Committee

AGENCY: U.S. Commission on Civil Rights.

ACTION: Announcement of virtual business meetings.

SUMMARY: Notice is hereby given, pursuant to the provisions of the rules and regulations of the U.S. Commission on Civil Rights (Commission) and the Federal Advisory Committee Act (FACA) that the Texas Advisory Committee (Committee) will hold a series of meetings via ZoomGov on the following dates and times listed below. These virtual business meetings are for the purpose of discussing their project on mental health care in the Texas Juvenile Justice System.

DATES: These meetings will take place on:

• Tuesday, April 11, 2023, from 12:00 p.m.-2:00 p.m. CT

• Wednesday, May 3, 2023, from 12:00 p.m.-1:00 p.m. CT

ADDRESSES: Zoom Link to Join:

• Tuesday, April 11th: https://www.zoomgov.com/meeting/register/vJItfuCtpz8oGT6lLccG8kGyA1O1F9Wmg-Q

• Wednesday, May 3rd: https://www.zoomgov.com/meeting/register/vJItcumsrz4uG-ISd0LP33-B8d1jrG-HUFE

FOR FURTHER INFORMATION CONTACT: Brooke Peery, Designated Federal Officer (DFO) at bpeery@usccr.gov or by phone at (202) 701-1376. Persons with hearing impairments may also follow the proceedings by first calling the Federal Relay Service at 1-800-877-8339 and providing the Service with the conference call number and conference ID number.

Members of the public are entitled to make comments during the open period at the end of the meeting. Members of the public may also submit written comments; the comments must be received in the Regional Programs Unit within 30 days following the meeting. Written comments may be emailed to Brooke Peery (DFO) at bpeery@usccr.gov.

Records and documents discussed during the meeting will be available for public viewing prior to and after the meeting at https://www.facadatabase.gov/FACA/FACAPublicViewCommitteeDetails?id=a10t0000001gzkoAAA.

Please click on the “Meeting Details” and “Documents” links. Records generated from this meeting may also be inspected and reproduced at the Regional Programs Unit, as they become available, both before and after the meeting. Persons interested in the work of this Committee are directed to the Commission's website, https://www.usccr.gov, or may contact the Regional Programs Unit at the above email or street address.

Agenda

I. Welcome & Roll Call

II. Approval of Minutes

III. Committee Discussion

IV. Public Comment

V. Adjournment

Dated: January 30, 2023.
David Mussatt,
Supervisory Chief, Regional Programs Unit.

[FR Doc. 2023-02207 Filed 2-1-23; 8:45 am]

BILLING CODE 6335-01-P